FEDERAL ELECTION COMMISSION

Sunshine Act Notice

DATE AND TIME: Thursday, November 18, 2004, 10 a.m.

PLACE: 999 E Street, NW., Washington, DC (ninth floor).

STATUS: This meeting will be open to the Public.

The following item has been added to the agenda: Final Rules: Technical amendments to BCRA and explanation and justification.

FOR FURTHER INFORMATION CONTACT: Robert Biersack, Acting Press Officer, Telephone (202) 694-1220.

Mary W. Dove,
Secretary of the Commission.

[FR Doc. 04-25646 Filed 11-15-04; 2:38 pm]

BILLING CODE 6715-01-M